ENVIRONMENTAL PROTECTION AGENCY

[FRL -7482-8]

Science Advisory Board, Clean Air Scientific Advisory Committee, Notification of Public Advisory Committee Meeting; Teleconference Consultation on Risk Analysis Plans for Coarse Particulate Matter (PM10-2.5) and PM10

AGENCY: Environmental Protection Agency (EPA).

ACTION: Notice.

SUMMARY: The Environmental Protection Agency (EPA), Science Advisory Board (SAB), announces the conduct of a publically-accessible teleconference of the Clean Air Scientific Advisory Committee (CASAC) Particulate Matter (PM) Review Panel to review the Agency's risk analysis plans for coarse-fraction PM10-2.5 and PM10.

DATES: The conference call meeting will take place on Thursday, May 1, 2003, from 10 a.m. to 12 p.m. eastern time. Participation will be by teleconference only.

ADDRESSES: Members of the public who wish to obtain the call-in number and access code to participate must contact Ms. Delores Darden, EPA Science Advisory Board Staff, at telephone/voice mail: (202) 564-2282, via e-mail at: darden.delores@epa.gov; or at mailing address: EPA Science Advisory Board, U.S. Environmental Protection Agency (1400A), 1200 Pennsylvania Avenue, NW., Washington, DC, 20460 (FedEx/Courier Zip Code: 20004), in order to register.

FOR FURTHER INFORMATION CONTACT: Any member of the public wishing further information about this conference call should contact Mr. Fred Butterfield, Designated Federal Officer (DFO), EPA Science Advisory Board Staff; at telephone/voice mail: (202) 564-4561; or via e-mail at: butterfield.fred@epa.gov. General information concerning the CASAC or the EPA Science Advisory Board can be found on the EPA Web site at: http://www.epa.gov/sab.

SUPPLEMENTARY INFORMATION: 1. Summary. The Clean Air Scientific Advisory Committee was established by 42 U.S.C. 7409 in part to provide advice, information and recommendations on the scientific and technical aspects of issues related to the criteria for national ambient air quality standards (NAAQS). The CASAC Particulate Matter Review Panel will report to the Administrator of EPA through the CASAC, which is administratively located under the EPA Science Advisory Board. The SAB was established by 42 U.S.C. 4365 to provide independent scientific and technical advice, consultation, and recommendations to the EPA Administrator on the technical basis for Agency positions and regulations. Both the CASAC and the SAB are Federal advisory committees chartered under the Federal Advisory Committee Act (FACA), as amended (5 U.S.C. App.). The CASAC Particulate Matter Review Panel will comply with the provisions of FACA and all appropriate SAB procedural policies.

On April 9, 2003, EPA's Office of Air Quality Planning and Standards (OAQPS) will make available for public review and comment a draft memorandum, “Preliminary Recommended Methodology for PM10 and PM10-2.5 Risk Analyses in Light of Reanalyzed Study Results” (hereafter, draft Risk Analysis Methodology for PM10 and PM10-2.5). This document outlines the overall scope proposed for the quantitative risk assessments for PM10 and coarse-fraction PM (PM10-2.5) that will be conducted as part of the periodic review of the NAAQS for PM, pursuant to sections 108 and 109 of the Clean Air Act (CAA).

2. Background. On January 28, 2002 (67 FR 3897), OAQPS made available for public and CASAC review a draft document, “Proposed Methodology for Particulate Matter Risk Analyses for Selected Urban Areas” (hereafter, draft PM Risk Analysis Methodology), that describes EPA's plans and approach for conducting PM health risk analyses primarily for fine particles (PM2.5). The PM risk analyses will be performed to assist in the preparation of the OAQPS PM Staff Paper, the purpose of which is to evaluate the policy implications of the key scientific and technical information contained in the Agency's PM Air Quality Criteria Document (AQCD) and identify critical elements that EPA staff believe should be considered in reviewing the PM NAAQS. The Staff Paper is intended to “bridge the gap” between the scientific review contained in the AQCD and the public health and welfare policy judgments required of the Administrator in reviewing the NAAQS. On February 27, 2002, the CASAC PM Review Panel met via public teleconference to provide advice to EPA on the proposed methodology; and, on May 23, 2002, the CASAC issued an Advisory providing its advice to the EPA Administrator entitled, “Review of the Agency's Draft Proposed Methodology for Particulate Matter Risk Analysis for Selected Urban Areas; an Advisory by the Clean Air Scientific Advisory Committee (EPA-SAB-CASAC-ADV-02-002), located on the EPA Science Advisory Board Web site at: http://www.epa.gov/sab/pdf/casacadv02002.pdf.

In response to the advice provided in the May 2002 CASAC Advisory, OAQPS has proposed to expand the scope of the PM health risk analyses to include risk analyses for PM10. The charge to the CASAC PM Panel during their consultation on May 1, 2003, is to provide feedback on the scope and approach proposed by EPA for the PM10 and PM10-2.5 components of the risk analyses. EPA is making available the draft Risk Analysis Methodology for PM10 and PM10-2.5 to facilitate discussion and review of the proposed approach by the CASAC and general public. This draft document takes into consideration the availability of reanalyses using alternative statistical approaches for some PM health effect studies identified by EPA as being of high priority for policy considerations (see the following URL: http://www.epa.gov/ncea/partmatt.htm, for more information). This document outlines the overall scope proposed for the quantitative risk assessments for PM10 and PM10-2.5 including health endpoints to be analyzed, health studies that serve as the source of concentration-response functions, and cities to be examined.

Following the May 1, 2003, CASAC Particulate Matter Review Panel teleconference to review the draft Risk Analysis Methodology for PM10 and PM10-2.5, EPA will prepare a technical report describing the risk analysis methodology in greater detail and including preliminary risk estimates taking into account public and CASAC comments. The methodology and preliminary estimates will be summarized in the next draft of the OAQPS PM Staff Paper, which will be released for public and CASAC review later this year.

Any questions concerning the draft Risk Analysis Methodology for PM10 and PM10-2.5 should be directed to Mr. Harvey Richmond, OAQPS's Health and Ecosystems Effects Group, at telephone/voice mail: (919) 541-5271; or via e-mail at: richmond.harvey@epa.gov.

3. Availability of Additional Meeting Materials. A copy of the draft memorandum, “Preliminary Recommended Methodology for PM10 and PM10-2.5 Risk Analyses in Light of Reanalyzed Study Results” will be available through EPA's Technology Transfer Network (TTN) Web site under the technical area for National Ambient Air Quality Standards, under the heading of “Particulate Matter—Technical Documents” at the following URL address: http://www.epa.gov/ttn/naaqs/standards/pm/s_pm_cr_td.html after April 9, 2003. In addition, the draft agenda for the teleconference that is the subject of this notice will be posted on the EPA Science Advisory Board Web Site at: http://www.epa.gov/sab (under the “Agendas” subheading) approximately 10 days before the publically-accessible teleconference.

4. Providing Oral or Written Comments at SAB Meetings. It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of 10 minutes (unless otherwise indicated). For conference call meetings, opportunities for oral comment will usually be limited to no more than three minutes per speaker and no more than 15 minutes total. Interested parties should contact the CASAC DFO, Mr. Fred Butterfield, at the telephone number or e-mail address provided above, at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Written comments should be supplied to Ms. Delores Darden, EPA Science Advisory Board Staff, at the e-mail address or mailing address provided above, or via fax at: (202) 501-0582, in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Any written comments supplied at the meeting should be provided to the DFO up to or immediately following the meeting. The SAB allows a grace period of 48 hours after adjournment of the public meeting to provide written comments supporting any verbal comments stated at the public meeting to be made a part of the public record.

5. Meeting Access. Individuals requiring special accommodation to access this teleconference should contact Ms. Delores Darden, EPA Science Advisory Board Staff, at the telephone or e-mail address provided above, at least five business days prior to the meeting so that appropriate arrangements can be made.

Dated: April 7, 2003.
Vanessa T. Vu,
Director, EPA Science Advisory Board Staff Office.

[FR Doc. 03-9040 Filed 4-11-03; 8:45 am]

BILLING CODE 6560-50-P